ENVIRONMENTAL PROTECTION AGENCY

[OAR-2004-0386; FRL-7998-1]

RIN 2060-AE24

Consumer and Commercial Products: Schedule for Regulation

AGENCY: Environmental Protection Agency (EPA).

ACTION: Notice of revisions to the list of product categories scheduled for regulation under section 183(e) of the Clean Air Act (CAA).

SUMMARY: This notice revises the groupings in which the listed categories of consumer and commercial products will be regulated under section 183(e) of the CAA. Although there are no additions to or deletions from the list, the categories are being regrouped.

EFFECTIVE DATE: November 17, 2005.

ADDRESSES: EPA has established a docket for this action under Docket ID No. OAR-2004-0386 (legacy docket No. A-94-65). All documents in the docket are listed in the index. Publicly available docket materials are available for public inspection and copying between 8:30 a.m. and 4:30 p.m., Monday through Friday, excluding legal holidays. The docket is located at: U.S. EPA, Air and Radiation Docket and Information Center (6102T), 1301 Constitution Avenue, NW., Room B108, Washington, DC 20460, or by calling (202) 566-1744 or 1742. A reasonable fee may be charged for copying docket materials.

FOR FURTHER INFORMATION CONTACT: Mr. Bruce Moore, EPA, Office of Air Quality Planning and Standards, Emission Standards Division (C504-03), Research Triangle Park, NC 27711, telephone number (919) 541-5460, facsimile number (919) 541-0072, electronic mail address: moore.bruce@epa.gov.

SUPPLEMENTARY INFORMATION: Docket. Docket ID No. OAR-2004-0386 (legacy docket ID No. A-94-65) contains information considered by EPA in development of the consumer and commercial products study and the initial list and schedule for regulation. The official public docket consists of the documents specifically referenced in this action and other information related to this action. Although a part of the official docket, the public docket does not include confidential business information or other information whose disclosure is restricted by statute. The official public docket is the collection of materials that is available for public viewing at the EPA Docket Center, EPA West Building, Room B-102, 1301 Constitution Avenue, NW., Washington, DC. The Public Reading Room is open from 8:30 a.m. to 4:30 p.m., Monday through Friday, excluding legal holidays. The telephone number for the Public Reading Room is (202) 566-1744, and the telephone number for the EPA Docket Center is (202) 566-1742. A reasonable fee may be charged for copying docket materials.

Electronic Docket Access. An electronic version of the public docket is available through EDOCKET, EPA's electronic public docket and comment system. You may use EDOCKET at http://docket.epa.gov/edkpub/index.jsp to view public documents, access the index listing of the contents of the official public docket, and to access those documents in the public docket that are available electronically. Although not all docket materials may be available electronically, you may still access any of the publicly available docket materials through the docket facility in the above paragraph entitled “Docket.” Once in the system, select “search,” then key in the appropriate docket identification number. You may access this notice electronically through the Internet under the Federal Register listings at http://www.epa.gov/fedrgstr/.

Worldwide Web (WWW). In addition to being available in the docket, an electronic copy of today's notice will also be available through the WWW. Following signature, a copy of the notice will be posted on EPA's Technology Transfer Network (TTN) policy and guidance page for newly proposed or promulgated rules at http://www.epa.gov/ttn/oarpg/. The TTN provides information and technology exchange in various areas of air pollution control.

Outline. The information presented in this preamble is organized as follows:

I. What Are the Significance and History of the Section 183(e) List and Schedule for Regulating Consumer and Commercial Products?

II. Why Is EPA Revising the List and Schedule for Regulations?

III. What Are the Revisions EPA Is Making to the Section 183(e) Category List and Schedule for Regulations?

IV. Statutory and Executive Order Reviews.

I. What Are the Significance and History of the Section 183(e) List and Schedule for Regulating Consumer and Commercial Products?

Ground-level ozone, which is a major component of smog, is formed in the atmosphere by reactions of volatile organic compounds (VOC) and oxides of nitrogen in the presence of sunlight. The formation of ground-level ozone is a complex process that is affected by many variables.

Exposure to ground-level ozone is associated with a wide variety of human health effects, agricultural crop loss, and damage to forests and ecosystems. Acute health effects are induced by short-term exposures (observed at concentrations as low as 0.12 parts per million (ppm)), generally while individuals are engaged in moderate or heavy exertion, and by prolonged exposures to ozone (observed at concentrations as low as 0.08 ppm), typically while individuals are engaged in moderate exertion. Moderate exertion levels are more frequently experienced by individuals than heavy exertion levels. The acute health effects include respiratory symptoms, effects on exercise performance, increased airway responsiveness, increased susceptibility to respiratory infection, increased hospital admissions and emergency room visits, and pulmonary inflammation. Groups at increased risk of experiencing such effects include active children, outdoor workers, and others who regularly engage in outdoor activities, as well as those with preexisting respiratory disease. Currently available information also suggests that long-term exposures to ozone may cause chronic health effects (e.g., structural damage to lung tissue and accelerated decline in baseline lung function).

Under section 183(e) of the CAA, EPA conducted a study of VOC emissions from the use of consumer and commercial products to assess their potential to contribute to levels of ozone that violate the national ambient air quality standards (NAAQS) for ozone, and to establish criteria for regulating VOC emissions from these products. Section 183(e) directs EPA to list for regulation those categories of products that account for at least 80 percent of the VOC emissions, on a reactivity-adjusted basis, from consumer and commercial products in areas that violate the NAAQS for ozone (i.e., ozone nonattainment areas), and to divide the list of categories to be regulated into four groups.

The original schedule for regulations that established the four groups of categories was published in the Federal Register on March 23, 1995 (60 FR 15264). EPA stated in that notice that EPA may amend the schedule and the products listed in particular groups and may exercise its discretion in scheduling its actions under section 183(e) of the CAA in order to achieve an effective regulatory program. A revised schedule and grouping was published on March 18, 1999 (64 FR 13422). For more background information, you should read the previous notices relating to the development of the initial list and schedule and subsequent change.

II. Why Is EPA Revising the List and Schedule for Regulations?

In order to manage workload on development of rules or control techniques guidelines (CTG) for the product categories identified for regulation under section 183(e) of the CAA, EPA is regrouping the list such that each of the remaining groups contains five product categories. With one exception, today's action does not change the order of product categories on the list. Letterpress printing materials is being moved to allow grouping of the three printing product categories for concurrent development. Although EPA notes that section 183(e) does not require the Agency to place product categories into equal groups, this revision of the list will maintain equal groups of product categories for Groups II, III, and IV. Based upon current circumstances, EPA believes that a more equal distribution of the product categories will allow the Agency to optimize use of available resources and work more effectively with stakeholders in each industry. Furthermore, by reordering the product categories in this fashion, EPA hopes to address product categories that account for a larger percentage of VOC emissions in Group II, and thus earlier in the process.

III. What Are the Revisions EPA Is Making to the Section 183(e) Category List and Schedule for Regulations?

The category list and schedule for regulations currently is divided into Groups I through IV, containing six, one, four, and ten product categories, respectively. EPA has already completed the product categories identified in Group I. EPA issued national volatile organic compound emission standards for “autobody refinishing coatings,” “consumer products” (24 categories), and “architectural coatings.” EPA issued CTG for “shipbuilding and ship repair surface coating operations,” “aerospace coatings,” and “wood furniture manufacturing operations.” Today's change redistributes the 15 product categories in Groups II through IV such that each of these groups contains five product categories. The revised list showing the product categories in each of the four groups is presented in Table 1. EPA notes that there is ongoing litigation to establish dates for completion of Groups II, III, and IV.

Table 1.—Consumer and Commercial Products Schedule for Regulations
| Emissions, megagrams per year (Mg/yr)
Group I:
Consumer products (24 categories) | 301,347
Shipbuilding and repair coatings | 23,302
Aerospace coatings | 165,892
Architectural coatings | 362,454
Autobody refinishing coatings | 85,509
Wood furniture coatings | 88,109
Total for Group I | 1,026,613
Group II:
Flexible package printing materials | 136,364
Lithographic printing materials | 545,454
Letterpress printing materials | 25,636
Industrial cleaning solvents | 232,890
Flatwood paneling coatings | 19,618
Total for Group II | 959,962
Group III:
Aerosol spray paints | 58,521
Paper, film, and foil coatings | 92,064
Plastic parts coatings | 20,000
Metal furniture coatings | 97,220
Large appliance coatings | 22,994
Total for Group III | 290,799
Group IV:
Fiberglass boat manufacturing materials | 11,000
Petroleum drycleaning solvents | 49,091
Auto and light-duty truck assembly coatings | 68,182
Miscellaneous metal products coatings | 198,545
Miscellaneous industrial adhesives | 185,175
Total for Group IV | 511,993
Emissions addressed by schedule | 2,789,367
Percentage of total (3,481,804 mg/yr) | 80.1

IV. Statutory and Executive Order Reviews

Under Executive Order 12866 (58 FR 51735, October 4, 1993), EPA must determine whether the regulatory action is “significant” and, therefore, subject to review by the Office of Management and Budget (OMB) and the requirements of the Executive Order. The Executive Order defines “significant” regulatory action as one that is likely to result in a rule that may:

(1) Have an annual effect on the economy of $100 million or more, or adversely affect in a material way the economy, productivity, competition, jobs, the environment, public health or safety, or State, local, or tribal governments or communities;

(2) Create a serious inconsistency or otherwise interfere with an action taken or planned by another agency;

(3) Materially alter the budgetary impact of entitlements, grants, user fees, or loan programs, or the rights and obligations of recipients thereof; or

(4) Raise novel legal or policy issues arising out of legal mandates, the President's priorities, or the principles set forth in the Executive Order.

It has been determined that this action is not a “significant regulatory action” under the terms of Executive Order 12866 and is, therefore, not subject to OMB review.

Today's notice is not a rule; it is essentially an information sharing activity which does not impose regulatory requirements or costs. Therefore, the requirements of Executive Order 13132 (Federalism), Executive Order 13175 (Consultation and Coordination with Indian Tribal Governments), Executive Order 13045 (Protection of Children from Environmental Health Risks and Safety Risks), Executive Order 13211 (Actions Concerning Regulations that Significantly Affect Energy Supply, Distribution, or Use), the Regulatory Flexibility Act, the Unfunded Mandates Reform Act, and the National Technology Transfer and Advancement Act, do not apply to today's notice. Also, this notice does not contain any information collection requirements and, therefore, is not subject to the Paperwork Reduction Act, 44 U.S.C. 3501, et seq.

Dated: November 10, 2005.
William L. Wehrum,
Acting Assistant Administrator for Air and Radiation.

[FR Doc. 05-22817 Filed 11-16-05; 8:45 am]

BILLING CODE 6560-50-P